NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 12, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-00-30, 3 items, 3 temporary items). Records relating to external exposure of individuals to ionizing radiation. Included are dosimeter evaluations, logs and readings, automated dosimetry reports, records of dose to an embryo/fetus, occupational exposure histories, and electronic copies of documents created using electronic mail and word processing. This schedule also increases the retention period of recordkeeping copies of files accumulated in offices other than the Army Ionizing Radiation Dosimetry Center and proposes minor changes in the disposition instructions for files held by the Center. Files held by the Center have a 75 year retention period.

2. Department of the Army, Agency-wide (N1-AU-00-37, 3 items, 3 temporary items). Records that are maintained by radiation safety officers relating to internal exposure of individuals to radioactive materials and to routine radiation safety surveys. Included are dosimeter badge controls, biological specimen analyses, reports relating to the functioning of facilities and equipment, and electronic copies of documents created using electronic mail and word processing. A 75 year retention period was previously approved for records relating to individual exposures accumulated by bioassay labs and by the Army Ionizing Radiation Dosimetry Center.

3. Department of the Army, Army-wide (N1-AU-01-15, 1 item, 1 temporary item). Master file of the Housing Operation Management System, an electronic information system used to maintain accountability of military housing, furnishings, and equipment. The system includes dwelling unit records, furnishings and equipment inventories, customer applications, eligibility certificates, complaints, and investigations.

4. Department of Justice, Federal Bureau of Investigation (N1-65-01-02, 2 items, 2 temporary items). Records created at FBI headquarters and field offices relating to the advertising and filling of vacant FBI support employee (non-agent) positions. Included are such records as applications, interview questions, sound recordings of interviews, score sheets, and electronic copies of documents created using electronic mail and word processing.

5. Department of Justice, Federal Bureau of Investigation (N1-65-01-03, 2 items, 2 temporary items). Hard copy rap sheets generated from an automated system that are used to identify case files for court-ordered expungements. An automated identification and rap sheet system was previously approved for permanent retention.

6. Department of the Treasury, Office of Information Technology Policy and Strategy (N1-56-01-2, 9 items, 9 temporary items). Records that pertain to Year 2000 efforts, including such matters as the development of plans and strategies, the review and testing of computer systems and applications, and program reviews. Files contain plans, copies of contracts, policy letters, correspondence, and electronic copies of documents created using word processing and electronic mail.

7. Department of Veterans Affairs, Office of the Inspector General (N1-15-99-3, 3 items, 3 temporary items). Audit Case Files and Investigative Case Files, which were previously scheduled under General Records Schedule 22, items 1B and 2. Included are reports, correspondence, supporting work papers, and electronic copies of documents created using electronic mail and word processing. Files relating to investigations that attract national media or congressional attention or result in significant changes in agency policies or procedures will be appraised by the National Archives and Records Administration on a case-by-case basis.

8. Federal Reserve System, Board of Governors (N1-82-01-1, 24 items, 20 temporary items). Records documenting the research activities of the Board of Governors of the Federal Reserve System, including the production of statistics and analytical support for the Board and the Federal Open Market Committee. Included are such files as statistical releases, input information for electronic systems, and background files for speeches, congressional reports, and briefings. Also included are electronic copies of documents created using electronic mail and word processing applications. This schedule authorizes the agency to apply the proposed disposition instructions to records in all media. Recordkeeping copies of such files as the Federal Reserve Bulletin, staff studies, and master data files and technical documentation from research program electronic systems are proposed for permanent retention. Permanent databases will be transferred to the National Archives in an electronic medium. Other permanent records will be transferred to the National Archives in an electronic medium if feasible. If transfer in an electronic medium is not feasible, paper or microfilm copies will be transferred.

9. Nuclear Regulatory Commission, Office of Investigations (N1-431-01-1, 3 items, 2 temporary items). Electronic copies of documents created using electronic mail and word processing that pertain to investigation case files. This schedule also increases the retention period of recordkeeping copies of case files that were previously approved for disposal and lengthens the amount of time the agency will retain selected files that were previously approved for permanent retention before transferring them to the National Archives.

10. Tennessee Valley Authority, River Systems Operations and Environment (N1-142-99-14, 5 items, 4 temporary items). Engineering laboratory records relating to projects conducted on behalf of agency offices and other agencies and institutions. These files include such records as raw field data, preliminary reports, model studies, reference copies of technical reports, and electronic copies of documents created using electronic mail and word processing. This schedule increases the retention period for certain of these records, which were previously approved for disposal. Unidentified or highly technical photographs of routine activities accumulated by the engineering laboratory are also proposed for disposal. Significant program records relating to river system projects and studies undertaken ca. 1935 to 1978 by the Project Planning Branch are proposed for permanent retention. However, during archival processing, staff of the National Archives and Records Administration will remove and destroy non-permanent material, such as duplicate copies and technical metadata.

11. Tennessee Valley Authority, Agency-wide (N1-142-00-6, 3 items, 3 temporary items). Records relating to the construction, inspection, survey, and modification of individual pipelines. Included are such records as schedules of activities, position responsibilities, standard inspection reports, and electronic copies of documents created using electronic mail and word processing.

12. Tennessee Valley Authority, Agency-wide (N1-142-00-7, 4 items, 4 temporary items). Temperature charts, pressure charts, and turbine supervisory charts relating to electrical generating equipment at power plants operated using water power, coal, or oil. Also included are electronic copies of documents created using electronic mail and word processing.

Dated: February 14, 2001.
Michael J. Kurtz,
Assistant Archivist for Record Services—Washington, DC.

[FR Doc. 01-4564 Filed 2-23-01; 8:45 am]

BILLING CODE 7515-01-U